DEPARTMENT OF JUSTICE

Antitrust Division

Notice Pursuant to the National Cooperative Research and Production Act of 1993—Telematics Suppliers Consortium, Inc.

Notice is hereby given that, on January 28, 2000, pursuant to section 6(a) of the National Cooperative Research and Production Act of 1993, 15 U.S.C. 4301 et seq. (“the Act”), Telematics Suppliers Consortium, Inc. has filed written notifications simultaneously with the Attorney General and the Federal Trade Commission disclosing changes in its membership status. The notifications were filed for the purpose of extending the Act's provisions limiting the recovery of antitrust plaintiffs to actual damages under specified circumstances. Specifically, The Automobile Association, Basingstoke, UNITED KINGDOM has been dropped as a party to this venture.

No other changes have been made in either the membership or planned activity of the group research project. Membership in this group research project remains open, and Telematics Suppliers Consortium, Inc. intends to file additional written notification disclosing all changes in membership.

On March 12, 1999, Telematics Suppliers Consortium, Inc. filed its original notification pursuant to Section 6(a) of the Act. The Department of Justice has not yet published a notice in the Federal Register.

The last notification was filed with the Department on November 3, 1999. A notice was published in the Federal Register pursuant to Section 6(b) of the Act on December 14, 1999 (64 FR 69801).

Constance K. Robinson,
Director of Operations, Antitrust Division.

[FR Doc. 00-16468 Filed 6-28-00; 8:45 am]

BILLING CODE 4410-11-M